DEPARTMENT OF COMMERCE

National Oceanic and Atmospheric Administration

RIN 0648-XU82

Endangered Species; File No. 14622

AGENCY: National Marine Fisheries Service (NMFS), National Oceanic and Atmospheric Administration (NOAA), Commerce.

ACTION: Notice; receipt of application.

SUMMARY: Notice is hereby given that Allen Foley, Ph.D., Florida Fish and Wildlife Conservation Commission, Fish and Wildlife Research Institute, 370 Zoo Parkway, Jacksonville, FL 32218, has applied in due form for a permit to take green (Chelonia mydas), hawksbill (Eretmochelys imbricata), Kemp's ridley (Lepidochelys kempii), and loggerhead (Caretta caretta) sea turtles for purposes of scientific research.

DATES: Written, telefaxed, or e-mail comments must be received on or before April 5, 2010.

ADDRESSES: The application and related documents are available for review by selecting “Records Open for Public Comment” from the Features box on the Applications and Permits for Protected Species (APPS) home page, https://apps.nmfs.noaa.gov, and then selecting File No. 14622 from the list of available applications. These documents are also available for review upon written request or by appointment in the following offices:

Permits, Conservation and Education Division, Office of Protected Resources, NMFS, 1315 East-West Highway, Room 13705, Silver Spring, MD 20910; phone (301)713-2289; fax (301)713-0376; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14622.

FOR FURTHER INFORMATION CONTACT: Amy Hapeman or Kate Swails, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

Dr. Foley requests a 5-year scientific research permit to: (1) monitor the abundance of loggerhead and green sea turtles; (2) characterize the aggregations of loggerhead, Kemp's ridley, and hawksbill sea turtles; and (3) determine the movements, behaviors, habitat-use, and reproductive status of loggerhead sea turtles. Research would occur in Florida Bay and the Everglades National Park. Researchers would approach up to 50 green sea turtles annually during non-linear transect surveys and capture by hand up to 170 loggerhead, 10 Kemp's ridley, and 5 hawksbill sea turtles annually during capture-mark-recapture studies. Captured turtles would be examined, measured, photographed, weighed, flipper tagged, passive integrated transponder tagged, marked with paint, and blood sampled to determine and monitor sex ratios, genetic identities, health and reproductive status, growth, and subsequent movements and behaviors. Skin and carapace samples would be collected from up to 50 of the captured loggerheads annually. Loggerheads greater than 75 cm straight carapace length would be examined by ultrasound. A subset of loggerheads would be transported, examined with laparoscopy or ultrasonography, and held for up to 24 hours annually. Testicular biopsies would be taken from up to 25 adult male loggerheads annually during laparoscopies. A subset of loggerheads also would have a satellite transmitter attached to the carapace before release. All captured turtles would be released at the site of capture.

Dated: February 26, 2010.
Tammy C. Adams,
Acting Chief, Permits, Conservation and Education Division, Office of Protected Resources, National Marine Fisheries Service.

[FR Doc. 2010-4624 Filed 3-3-10; 8:45 am]

BILLING CODE 3510-22-S